DEPARTMENT OF COMMERCE

International Trade Administration

A-428-602

Brass Sheet and Strip from Germany: Notice of Extension of Time Limit for Preliminary Results of Administrative Review

AGENCY: Import Administration, International Trade Administration, Department of Commerce.

EFFECTIVE DATE: November 18, 2009.

FOR FURTHER INFORMATION CONTACT: Dennis McClure or George McMahon at (202) 482-5973 and (202) 482-1167, respectively; AD/CVD Operations, Office 3, Import Administration, International Trade Administration, U.S. Department of Commerce, 14th Street and Constitution Avenue, NW, Washington, DC 20230.

SUPPLEMENTARY INFORMATION:

Background

On April 27, 2009, the Department of Commerce (the “Department”) initiated an administrative review of the antidumping duty order on brass sheet and strip from Germany with respect to Wieland-Werke AG (Wieland). See Initiation of Antidumping and Countervailing Duty Administrative Reviews and Request for Revocation in Part, 74 FR 19042 (April 27, 2009).

The period of review (POR) is March 1, 2008, through February 28, 2009. The preliminary results of this review are currently due no later than December 1, 2009.

Extension of Time Limits for Preliminary Results

Section 751(a)(3)(A) of the Tariff Act of 1930, as amended (the Act), requires the Department to make a preliminary determination within 245 days after the last day of the anniversary month of an order or finding for which a review is requested. Section 751(a)(3)(A) of the Act further states that if it is not practicable to complete the review within the time period specified, the administering authority may extend the 245-day period to issue its preliminary results by up to 120 days.

We determine that completion of the preliminary results of this review within the 245-day period is not practicable for the following reasons. This review requires the Department to gather and analyze a significant amount of information pertaining to the company's sales practices, manufacturing costs and corporate relationships, which is complicated due to the manner in which the inputs for making brass sheet and strip are purchased and the processes by which brass sheet and strip are sold. Furthermore, the respondent, Wieland, has proposed that the Department use an alternative cost methodology to account for the volatility in the material costs that affects our analysis and requires an examination of a significant amount of data. Given the number and complexity of issues in this case, and in accordance with section 751(a)(3)(A) of the Act, we are extending the time period for issuing the preliminary results of review by 120 days. Therefore, the preliminary results are now due no later than March 31, 2010. The final results continue to be due 120 days after the date of publication of the preliminary results.

We are issuing and publishing this notice in accordance with sections 751(a)(3)(A) and 777(i)(1) of the Act.

Dated: November 10, 2009.
John M. Andersen,
Acting Deputy Assistant Secretary for Antidumping and Countervailing Duty Operations.

[FR Doc. E9-27670 Filed 11-17-09; 8:45 am]

BILLING CODE 3510-DS-S